FEDERAL COMMUNICATIONS COMMISSION

[FR ID 52205]

Deletion of Items From September 30, 2021 Open Meeting

September 30, 2021.

The following items have been adopted by the Commission and deleted from the list of items scheduled for consideration at the Thursday, September 30, 2021, Open Meeting. These items were previously listed in the Commission's Notice of Thursday, September 23, 2021.

3 | OFFICE OF ENGINEERING & TECHNOLOGY | TITLE: Authorizing 6 GHz Band Automated Frequency Coordination Systems (ET Docket No. 21-352).
|  | SUMMARY: The Commission will consider a Public Notice beginning the process for authorizing Automated Frequency Coordination Systems to govern the operation of standard-power devices in the 6 GHz band (5.925-7.125 GHz).
4 | OFFICE OF ENGINEERING & TECHNOLOGY | TITLE: Spectrum Requirements for the Internet of Things (ET Docket No. 21-353)
|  | SUMMARY: The Commission will consider a Notice of Inquiry seeking comment on current and future spectrum needs to enable better connectivity relating to the Internet of Things (IoT).

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Marlene Dortch,
Secretary.

[FR Doc. 2021-22110 Filed 10-8-21; 8:45 am]

BILLING CODE 6712-01-P